DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of August 16, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Rankin County, Mississippi and Incorporated Areas
Docket Nos.: FEMA-B-1936 and FEMA-B-2121
City of Brandon | City Hall, 1000 Municipal Drive, Brandon, MS 39042.
City of Florence | City Hall, 203 College Street, Florence, MS 39073.
City of Flowood | City Hall, 2101 Airport Road, Flowood, MS 39232.
City of Jackson | Department of Public Works, Warren Hood Building, 200 South President Street, 5th Floor, Jackson, MS 39201.
City of Pearl | City Hall, 2420 Old Brandon Road, Pearl, MS 39208.
City of Richland | City Hall, 380 Scarbrough Street, Richland, MS 39218.
Pearl River Valley Water Supply District | Pearl River Valley Water Supply District, Building Department, 100 Reservoir Park Road, Brandon, MS 39047.
Unincorporated Areas of Rankin County | Rankin County Old Courthouse, 117 North Timber Street, Brandon, MS 39042.
Washington County, Mississippi and Incorporated Areas
Docket No.: FEMA-B-2131
City of Greenville | City Hall, Planning Department, 340 Main Street, Greenville, MS 38701.
Unincorporated Areas of Washington County | Washington County Planning Department, 900 Washington Avenue, Greenville, MS 38701.
Van Wert County, Ohio and Incorporated Areas
Docket No.: FEMA-B-2122
City of Van Wert | Municipal Building, 515 East Main Street, Van Wert, OH 45891.
Unincorporated Areas of Van Wert County | Van Wert County Annex, 114 East Main, Van Wert, OH 45891.
Village of Middle Point | Municipal Building, 103 North Adams Street, Middle Point, OH 45863.
Village of Willshire | Van Wert County Annex, 114 East Main, Van Wert, OH 45891.
Montour County, Pennsylvania (All Jurisdictions)
Docket Nos.: FEMA-B-1968 and B-2129
Borough of Danville | Municipal Building, 463 Mill Street, Danville, PA 17821.
Township of Cooper | Cooper Township Municipal Building, 59 Steltz Road, Danville, PA 17821.
Township of Mahoning | Mahoning Township Municipal Building, 849 Bloom Road, Danville, PA 17821.
Town of Mayberry | Mayberry Township Municipal Building, 162 High Road, Catawissa, PA 17820.

[FR Doc. 2022-08136 Filed 4-14-22; 8:45 am]

BILLING CODE 9110-12-P